ENVIRONMENTAL PROTECTION AGENCY

40 CFR Part 52

[EPA-R06-OAR-2023-0648; FRL-11992-01-R6]

Air Plan Approval; New Mexico; Periodic Emission Inventory SIP for the Sunland Park Nonattainment Area for the 2015 Ozone NAAQS

AGENCY: Environmental Protection Agency (EPA).

ACTION: Proposed rule.

SUMMARY: Pursuant to the Federal Clean Air Act (CAA or the Act), the Environmental Protection Agency (EPA) is proposing to approve State Implementation Plan (SIP) revisions related to the 2015 8-hour ozone National Ambient Air Quality Standards (NAAQS) for the Sunland Park New Mexico marginal nonattainment area.

DATES: Written comments must be received on or before August 2, 2024.

ADDRESSES: Submit your comments, identified by Docket No. EPA-R06-OAR-2023-0648, at https://www.regulations.gov or via email to salem.nevine@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Ms. Nevine Salem, 214-665-7222, salem.nevine@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Ms. Nevine Salem, EPA Region 6 Office, Infrastructure and Ozone Section, 214-665-7222, salem.nevine@epa.gov. We encourage the public to submit comments via https://www.regulations.gov. Please call or email the contact listed above if you need alternative access to material indexed but not provided in the docket.

SUPPLEMENTARY INFORMATION: Throughout this document wherever “we,” “us,” or “our” is used, we mean the EPA.

I. Background

Ozone is a gas that is formed by the reaction of Volatile Organic Compounds (VOC) and Oxides of Nitrogen (NOX) in the atmosphere in the presence of sunlight. Therefore, an emission inventory for ozone focuses on the emissions of VOC and NOX referred to as ozone precursors. These precursors (VOC and NOX) are emitted by many types of pollution sources, including point sources such as power plants and industrial emissions sources; on-road and off-road mobile sources (motor vehicles and engines); and smaller residential and commercial sources, such as dry cleaners, auto body shops, and household paints, collectively referred to as nonpoint sources (also called area sources).

1. The 2015 Ozone NAAQS

On October 1, 2015, the EPA revised both the primary and secondary NAAQS ¹ for ozone from concentration level of 0.075 part per million (ppm) to 0.070 ppm to provide increased protection of public health and the environment (80 FR 65296, October 26, 2015). The 2015 8-hour ozone NAAQS retains the same general form and averaging time as the 0.075 ppm NAAQS set in 2008 NAAQS but is set at a more protective level. Specifically, the 2015 8-hour ozone NAAQS is attained when the 3-year average of the annual fourth-highest daily maximum 8-hour average ambient air quality ozone concentrations is less than or equal to 0.07 ppm.²

¹ The primary ozone standards provide protection for children, older adults, and people with asthma or other lung diseases, and other at-risk populations against an array of adverse health effects that include reduced lung function, increased respiratory symptoms and pulmonary inflammation; effects that contribute to emergency department visits or hospital admissions; and mortality. The secondary ozone standards protect against adverse effects to the public welfare, including those related to impacts on sensitive vegetation and forested ecosystems.

² For a detailed explanation of the calculation of the 3-year 8-hour average, see 80 FR 65292 and 40 CFR part 50, Appendix U.

On March 9, 2018 (83 FR 10376), the EPA published the Classifications Rule that establishes how the statutory classifications will apply for the 2015 8-hr ozone NAAQS, including the air quality thresholds for each classification category and attainment deadline associated with each classification.

On June 4, 2018, the EPA classified the Sunland Park area in southern Doña Ana County, New Mexico as a marginal nonattainment area for 2015 ozone NAAQS with an attainment deadline of August 3, 2021. (See 83 FR 25776). Any state in which a marginal nonattainment area is located is required to submit certain SIP elements to the EPA in accordance with section 182(a) of the CAA.

2. Statutory and Regulatory Emission Inventory Requirements

An emission inventory of ozone is an estimation of actual emissions of air pollutants that contribute to the formation of ozone in an area. The emissions inventory provides emissions data for a variety of air quality planning tasks, including establishing baseline emission levels for calculating emission reduction targets needed to attain the NAAQS, determining emission inputs for ozone air quality modeling analyses, and tracking emissions over time to determine progress toward meeting Reasonable Further Progress (RFP) requirements.

CAA sections 182(a)(1) and 182(a)(3)(A) require submission of base year and periodic emissions inventories respectively for each ozone nonattainment area.³ States are required to submit a periodic inventory of emissions sources in the nonattainment areas to meet the requirements of CAA 182 (a)(3)(A), as specified in the Air Emissions Reporting Requirement (AERR) at 40 CFR part 51, subpart A. Each periodic inventory shall be submitted no later than the end of each 3-year period after the required submission of the base year inventory for the nonattainment area and this requirement shall apply until the area is redesignated to attainment. The emissions value included in the inventories shall be actual ozone season day emissions as defined by § 51.1300(q).⁴ These requirements allow the EPA, based on the states' progress in reducing emissions, to periodically reassess its policies and air quality standards and revise them as necessary. Most important, these inventories will be used to develop and assess new control strategies that states may use in attainment demonstration SIPs for the new NAAQS for ozone or other pollutants. The inventory may also serve as part of statewide inventories for purposes of regional modeling in transport areas, where the inventory plays an important role in modeling demonstrations for areas classified as nonattainment and outside transport regions.

³ For each nonattainment area, the state shall submit a base year inventory as defined by § 51.1300(p) to meet the emissions inventory requirement of CAA section 182(a)(1). This inventory shall be submitted no later than 24 months after the effective date of designation. The inventory year shall be selected consistent with the baseline year for the RFP plan as required by § 51.1310(b).

⁴ See Implementation of 2015 National Ambient Air Quality Standards for Ozone: Nonattainment Area State Implementation Plan Requirements Rule (SRR) 83 FR 62998.

II. State's Submittal

CAA Sections 182(a)(3) and 172(c)(3) require the periodic submission of emissions inventories for the SIP planning process to address SIP requirements applicable to ozone nonattainment areas in each classification category. The area of Sunland Park in southern Doña Ana County was classified as marginal nonattainment for the 2015 ozone NAAQS; initiating a two-year deadline to submit a baseline emissions inventory, followed by a periodic emission inventory every 3-years until the nonattainment area attains the standard (83 FR 25776). New Mexico Environmental Department (NMED's) baseline emissions inventory revisions SIP for the 2015 ozone NAA submittal was approved by EPA on April 6, 2022 (87 FR 12592).

On December 20, 2023, NMED submitted SIP revisions that included the periodic emissions inventory for the Sunland Park Nonattainment area. The inventory was submitted to meet the CAA section 182(a)(3)(A) obligation to develop a periodic emission inventory every 3-years after their base year inventory until the nonattainment area is designated as attainment for the NAAQS. The State conducted a public comment period with a public hearing and the State did not receive any comment during the comment period or the hearing.

The inventory includes annual and ozone season daily emissions 5 6 for the 2020 base year precursors NOX and VOC emissions from different source categories. The source sector types include industrial and small point sources (e.g., utilities), area nonpoint sources (e.g., residential heating commercial cooking, surface coating, gasoline dispensing facilities, etc.), on-road mobile sources (i.e., tailpipe exhaust), nonroad mobile sources (e.g., lawn and garden equipment, construction, agricultural equipment, etc.), and fires (e.g., wildfires, prescribed burnings).

⁵ Ozone season day emissions means an average day's emissions for a typical ozone season work weekday. The state shall select, subject to EPA approval, the particular month(s) in the ozone season and the day(s) in the work week to be represented, considering the conditions assumed in the development of RFP plans and/or emissions budgets for transportation conformity.

⁶ Although the Ozone Season is defined for New Mexico as the entire year (January 1-December 31), as listed at Table D-3 to Appendix D of Part 58. Ozone Monitoring Season by state (https://www.ecfr.gov/current/title-40/chapter-I/subchapter-C/part-58/appendix-Appendix D to Part 58), for this inventory, NMED is focusing on the peak ozone season emissions for the 3-month period from June 1 through August 31.

The state submitted annual NOX and VOC emissions in tons per year by sector for Sunland Park nonattainment area as well as Doña Ana County emissions. The submittal also includes the NOX and VOC emissions in tons per ozone season day by sector during a typical summer day.⁷ (reflective of the summer period, when the highest ozone concentrations are expected in the ozone nonattainment areas). Table 1 below shows annual NOX emissions countywide (Doña Ana County), annual NOX emissions Sunland Park Nonattainment Area (NAA), and Sunland Park Ozone season daily emissions. Table 2 shows the 2020 VOC annual emission by category for the Sunland Park ozone nonattainment areas.

⁷ See Ozone season day emission as defined in 40 CFR 51.1300(q), https://www.ecfr.gov/current/title-40/chapter-I/subchapter-C/part-51/subpart-CC/section-51.1300.

Table 1—NOX Emissions Sunland Park, Doña Ana County, New Mexico
Source category | Doña Ana County emissions (tpy) | Sunland Park, NM nonattainment emissions (tpy) | Sunland Park, NM nonattainment area ozone season daily emissions (lb/day)
Point | 1,155.22 | 740.6 | 4,046.99
Nonpoint Area | 1,588.62 | 42.01 | 229.56
Onroad | 3,590.66 | 111.04 | 606.78
Nonroad | 430.87 | 10.49 | 57.32
Total | 6,765.37 | 904.14 | 4,940.66

Table 2—VOC Emissions Sunland Park, Doña Ana County New Mexico
Source category | Doña Ana County emissions (tpy) | Sunland Park, NM nonattainment area emissions (tpy) | Sunland Park, NM nonattainment area ozone season daily emissions (lb/day)
Point | 114.84 | 41.78 | 228.31
Nonpoint Area | 10,933.55 | 134.11 | 732.84
Onroad | 1,206.00 | 25.41 | 138.85
Nonroad | 311.27 | 7.92 | 43.28
Total | 12,565.66 | 209.23 | 1,143.28

III. EPA's Evaluation

EPA has reviewed the New Mexico SIP revision for consistency with the CAA and regulatory periodic emissions inventory requirements. EPA also reviewed the techniques used by the state of New Mexico to derive and quality assure the emission estimates used in preparing the periodic emission inventory. New Mexico documented the procedures used to estimate the emissions for each of the four major inventory source types using 2020 National Emissions Inventory (NEI). The documentation of the emission estimation procedures was adequate for us to determine that New Mexico followed acceptable procedures to estimate the emissions. Quality Assurance (QA) checks were performed relative to data collection and analysis, and double counting of emissions from point, area, and mobile sources. QA/Quality Control checks were conducted to ensure accuracy of units, unit conversions, transposition of figures, and calculations.

New Mexico notified the public in both English and Spanish and offered the opportunity for comment and public hearing. A full record of public notices is included in the state's submittal. New Mexico did not receive any comments during the 30-day public comment period or request for public hearing. A copy of the New Mexico SIP revision submittal is available online at www.regulations.gov, Docket number EPA-R06-

VI. Proposed Action

Based on the EPA's review, the periodic year emissions inventory submitted by the state of New Mexico for Sunland Park ozone nonattainment area, and entire Doña Ana County include essential data elements, source categories, sample calculations, and report documentation in accordance with CAA sections 182(a)(3)(A) requirements, and has been developed in accordance with EPA guidance.⁸ Therefore, the EPA is proposing to approve the periodic emission inventory for Sunland Park 2015 ozone nonattainment area.

⁸ See: Emissions Inventory Guidance for Implementation of Ozone and Particulate Matter National Ambient Air Quality Standards (NAAQS) and Regional Haze Regulations (epa.gov) May 2017, https://www.epa.gov/sites/default/files/2017-07/documents/ei_guidance_may_2017_final_rev.pdf.

V. Environmental Justice Considerations

The EPA reviewed demographic data, which provides an assessment of individual demographic groups of the populations living within the approximate 13.86 square miles contained in the portion of the ozone nonattainment area within Sunland Park, New Mexico. The complete report is available in the public docket for this action. The Environmental Justice Index for eight of the twelve EJScreen indicators exceed the 80th percentile in the United States; seven of the twelve EJScreen indicators exceed the 80th percentile in the State of New Mexico. Five of the twelve indicators exceed the 90th percentile in both the State of New Mexico and the United States, including indices for particulate matter 2.5, ozone, air toxics cancer risk, air toxics respiratory, and wastewater discharge. This analysis showed an approximate population of 17,408 residents based on the 2017-2021 Census. Within this area, EJScreen identified that approximately 95% of the population are people of color with 58% identified as low income. Additionally, approximately 34% of the population is linguistically isolated and 30% of the population has less than a high school education.

This proposed action is to approve the periodic emission inventory for Sunland Park 2015 ozone nonattainment area, in which updated air emissions data in the National Emissions Inventory (NEI) is available on EPA public web page.⁹ This proposed action is not anticipated to have a disproportionately high or adverse human health or environmental effects on communities with environmental justice concerns.

⁹ National Emissions Inventory (NEI) | US EPA, https://www.epa.gov/air-emissions-inventories/national-emissions-inventory-nei.

VI. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The New Mexico Environmental Department did not evaluate environmental justice considerations as part of its SIP revision submittal; the CAA and applicable implementing regulations neither prohibit nor require such an evaluation. EPA performed an environmental justice analysis, as is described above in the section titled, “Environmental Justice Considerations.” The analysis was done for the purpose of providing additional context and information about this rulemaking to the public, not as a basis of the action. Due to the nature of the action being taken here, this action is expected to have a neutral to positive impact on the air quality of the affected area. Consideration of EJ is not required as part of this action, and there is no information in the record inconsistent with the stated goal of E.O. 12898 of achieving environmental justice for people of color, low-income populations, and Indigenous peoples.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: June 25, 2024.
Earthea Nance,
Regional Administrator, Region 6.

[FR Doc. 2024-14434 Filed 7-2-24; 8:45 am]

BILLING CODE 6560-50-P